DEPARTMENT OF THE INTERIOR

Bureau of Reclamation

Agency Information Collection Activities; Renewal of a Currently Approved Information Collection

AGENCY: Bureau of Reclamation, Interior.

ACTION: Notice of renewal and request for comments.

SUMMARY: The Bureau of Reclamation intends to submit a request for renewal of an existing approved information collection to the Office of Management and Budget (OMB): Diversions, Return Flow, and Consumptive Use of Colorado River Water in the Lower Colorado River Basin (OMB Control Number 1006-0015).

DATES: Send written comments by June 25, 2012.

ADDRESSES: To obtain copies of the information collection forms or to submit comments on this information collection, contact Maria Germain (LC-4410), P.O. Box 61470, Boulder City, NV 89006, or to mgermain@usbr.gov.

FOR FURTHER INFORMATION CONTACT: Margot Selig, Supervisory Contract and Repayment Specialist, Water Administration Group, Boulder Canyon Operations Office, Bureau of Reclamation, (702) 293-8192.

SUPPLEMENTARY INFORMATION:

I. Abstract

The Bureau of Reclamation (Reclamation) delivers Colorado River water to water users for diversion and beneficial consumptive use in the States of Arizona, California, and Nevada. The Consolidated Decree of the United States Supreme Court in the case of Arizona v. California, et al., entered March 27, 2006, (547 U.S. 150 (2006)) requires the Secretary of the Interior to prepare and maintain complete, detailed, and accurate records of diversions of water, return flow, and consumptive use and make these records available at least annually. This information is needed to ensure that a State or a water user within a State does not exceed its authorized use of Colorado River water. Water users are obligated by provisions in their water delivery contracts to provide Reclamation information on diversions and return flows. Reclamation determines the consumptive use by subtracting return flow from diversions or by other engineering means. Without the information collected, Reclamation could not comply with the order of the United States Supreme Court to prepare and maintain detailed and accurate records of diversions, return flow, and consumptive use.

II. Data

OMB Control Number: 1006-0015.

Title: Diversions, Return Flow, and Consumptive Use of Colorado River Water in the Lower Colorado River Basin.

Description of respondents: The respondents will include the Lower Basin States (Arizona, California, and Nevada), local and tribal entities, water districts, and individuals that use Colorado River water.

Frequency: Monthly, annually, or otherwise as determined by the Secretary of the Interior.

Estimated total number of respondents: 54.

Estimated number of responses per respondent: 1 annually and/or 12 monthly.

Estimated total number of annual responses: 292.

Estimated total annual burden hours: 48.7 hours (rounded).

Estimated burden for each form: 10 minutes.

Form No. | Estimated number of respondents | Total responses per year | *Estimated annual burden hours per form
LC-72 | 1 | 12 | 2.0
LC-72A | 1 | 1 | 0.2
LC-72B | 24 | 24 | 4.0
Custom Forms | 28 | 255 | 42.5
Total | 54 | 292 | 48.7
* Burden hours are rounded up.

III. Request for Comments

Comments are invited on:

(a) Whether the proposed collection of information is necessary for the proper performance of our functions, including whether the information will have practical use;

(b) the accuracy of our burden estimate for the proposed collection of information;

(c) ways to enhance the quality, usefulness, and clarity of the information to be collected; and

(d) ways to minimize the burden of the collection of information on respondents, including the use of automated collection techniques or other forms of information technology.

We will summarize all comments received regarding this notice. We will publish that summary in the Federal Register when the information collection request is submitted to OMB for review and approval.

IV. Public Disclosure

Before including your address, telephone number, email address, or other personal identifying information in your comment, you should be aware that your entire comment—including your personal identifying information—may be made publicly available at any time. While you can ask us in your comment to withhold your personal identifying information from public review, we cannot guarantee that we will be able to do so.

Dated: April 18, 2012.
Steven C. Hvinden,
Chief, Boulder Canyon Operations Office, Lower Colorado Region Bureau of Reclamation.

[FR Doc. 2012-9917 Filed 4-24-12; 8:45 am]

BILLING CODE 4310-MN-P